SMALL BUSINESS ADMINISTRATION

[Declaration of Disaster #3340]

Commonwealth of Puerto Rico; Amendment #2

In accordance with a notice received from the Federal Emergency Management Agency, dated May 11, 2001, the above-numbered Declaration is hereby amended to establish the incident period for this disaster as beginning on May 6, 2001 and continuing through May 11, 2001.

All other information remains the same, i.e., the deadline for filing applications for physical damage is July 15, 2001 and for economic injury the deadline is February 15, 2002.

(Catalog of Federal Domestic Assistance Program Nos. 59002 and 59008)

Dated: May 23, 2001.
Herbert L. Mitchell,
Associate Administrator for Disaster Assistance.

[FR Doc. 01-13560 Filed 5-29-01; 8:45 am]

BILLING CODE 8025-01-P